DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 24, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Food Safety Certification for Specialty Crops Program (FSCSC).

OMB Control Number: 0560-0311.

Summary of Collection: The Farm Service Agency (FSA) is issuing payments under the Coronavirus Aid, Relief, and Economic Stability (CARES) Act of up to $200 million to assist eligible specialty crop operations with on-farm food safety certification and related expenses. The development, implementation, and maintenance of on-farm food safety programs resulted in unforeseen costs for many specialty crop operations who sought alternate markets for their products during the pandemic, as demand from traditional markets such as restaurants and food service diminished or disappeared.

Need and Use of the Information: In order to determine whether a producer is eligible for FSCSC and to calculate a payment, an applicant is required to submit form FSA-888, Food Safety Certification for Specialty Crops Program (FSCSC). Applicants must also have the following forms on file with FSA: AD-2047, Customer Data Worksheet, and SF-3881, ACH Vendor/Miscellaneous Payment Enrollment Form.

The information submitted by respondents are used by FSA to determine eligibility and issue payments to eligible applicants under FSCSC.

Failure to solicit applications will result in failure to provide payments to eligible applicants as intended by the CARES Act.

Description of Respondents: Farms.

Number of Respondents: 2,500.

Frequency of Responses: Reporting; On Occasion.

Total Burden Hours: 2,650.

Rachelle Ragland-Greene,
Departmental Collection Clearance Officer.

[FR Doc. 2025-20754 Filed 11-21-25; 8:45 am]

BILLING CODE 3410-05-P